DEPARTMENT OF LABOR

Employment and Training Administration

[TA-W-71,433]

Syncreon USA, Formerly Known as TDS US Automotive, Belvidere, IL; Amended Certification Regarding Eligibility To Apply for Worker Adjustment Assistance

In accordance with Section 223 of the Trade Act of 1974, as amended (“Act”), 19 U.S.C. 2273, the Department of Labor issued a Certification of Eligibility to Apply for Worker Adjustment Assistance on March 12, 2010, applicable to workers of Syncreon USA, Belvidere, Illinois. The workers provide metering, sequencing, kitting, and delivery services. The notice was published in the Federal Register on April 23, 2010 (75 FR 21353).

At the request of the State agency, the Department reviewed the certification for workers of the subject firm. New information shows that some workers separated from employment at Syncreon USA had their wages reported through a separate unemployment insurance (UI) tax account under the name TDS US Automotive.

Accordingly, the Department is amending this certification to properly reflect this matter.

The amended notice applicable to TA-W-71,433 is hereby issued as follows:

All workers of Syncreon USA, formerly known as TDS US Automotive, Belvidere, Illinois, who became totally or partially separated from employment on or after June 16, 2008, through March 12, 2012, and all workers in the group threatened with total or partial separation from employment on the date of certification through two years from the date of certification, are eligible to apply for adjustment assistance under Chapter 2 of Title II of the Trade Act of 1974, as amended.

Signed at Washington, DC, this 24th day of February, 2011.
Michael W. Jaffe,
Certifying Officer, Office of Trade Adjustment Assistance.

[FR Doc. 2011-5480 Filed 3-9-11; 8:45 am]

BILLING CODE 4510-FN-P